DEPARTMENT OF ENERGY

Federal Energy Regulatory Commission

Combined Notice of Filings #1

Take notice that the Commission received the following electric rate filings:

Docket Numbers: ER11-4357-001.

Applicants: Marathon Power LLC.

Description: Amendment to Application of Marathon Power LLC.

Filed Date: 08/31/2011.

Accession Number: 20110831-5048.

Comment Date: 5 p.m. Eastern Time on Wednesday, September 21, 2011.

Docket Numbers: ER11-4393-000.

Applicants: TAQA Gen X LLC.

Description: TAQA Gen X LLC submits tariff filing per 35.12: TAQA MBR Tariffs to be effective 8/31/2011.

Filed Date: 08/30/2011.

Accession Number: 20110830-5001.

Comment Date: 5 p.m. Eastern Time on Tuesday, September 20, 2011.

Docket Numbers: ER11-4395-000.

Applicants: Duke Energy Carolinas, LLC.

Description: Duke Energy Carolinas, LLC submits tariff filing per 35.13(a)(2)(iii: Amendment to PMPA NITSA to be effective 8/1/2011.

Filed Date: 08/30/2011.

Accession Number: 20110830-5080.

Comment Date: 5 p.m. Eastern Time on Tuesday, September 20, 2011.

Docket Numbers: ER11-4396-000.

Applicants: Louisville Gas and Electric Company.

Description: Louisville Gas and Electric Company submits tariff filing per 35.13(a)(2)(iii: 08_30_11 TranServ Replacement ITO to be effective 9/1/2012.

Filed Date: 08/30/2011.

Accession Number: 20110830-5090.

Comment Date: 5 p.m. Eastern Time on Tuesday, September 20, 2011.

Docket Numbers: ER11-4397-000.

Applicants: Dynegy Midwest Generation, LLC.

Description: Dynegy Midwest Generation, LLC submits tariff filing per 35.13(a)(2)(iii: Notice of Succession to Black Start Service Agreement to be effective 8/4/2011.

Filed Date: 08/30/2011.

Accession Number: 20110830-5112.

Comment Date: 5 p.m. Eastern Time on Tuesday, September 20, 2011.

Docket Numbers: ER11-4398-000.

Applicants: Dynegy Midwest Generation, LLC.

Description: Dynegy Midwest Generation, LLC submits tariff filing per 35.13(a)(2)(iii: Notice of Succession to Market-Based Rate Tariff to be effective 8/4/2011.

Filed Date: 08/30/2011.

Accession Number: 20110830-5117.

Comment Date: 5 p.m. Eastern Time on Tuesday, September 20, 2011.

Docket Numbers: ER11-4399-000.

Applicants: Dynegy Midwest Generation, LLC.

Description: Dynegy Midwest Generation, LLC submits tariff filing per 35.13(a)(2)(iii: Notice of Succession to Reactive Service Rate Schedule to be effective 8/4/2011.

Filed Date: 08/30/2011.

Accession Number: 20110830-5118.

Comment Date: 5 p.m. Eastern Time on Tuesday, September 20, 2011.

Docket Numbers: ER11-4400-000.

Applicants: Dynegy Power Marketing, LLC.

Description: Dynegy Power Marketing, LLC submits tariff filing per 35.13(a)(2)(iii: Notice of Succession to Market-Based Rate Tariff to be effective 8/4/2011.

Filed Date: 08/30/2011.

Accession Number: 20110830-5119.

Comment Date: 5 p.m. Eastern Time on Tuesday, September 20, 2011.

Docket Numbers: ER11-4401-000.

Applicants: Louisville Gas and Electric Company.

Description: Louisville Gas and Electric Company submits tariff filing per 35.13(a)(2)(iii: 08_30_11 BREC Amd NITSA to be effective 8/31/2011.

Filed Date: 08/30/2011.

Accession Number: 20110830-5135.

Comment Date: 5 p.m. Eastern Time on Tuesday, September 20, 2011.

Docket Numbers: ER11-4402-000.

Applicants: PJM Interconnection, LLC.

Description: PJM Interconnection, LLC submits tariff filing per 35.13(a)(2)(iii: Revisions to the Black Start Service—PJM Tariff Schedule 6A to be effective 11/1/2011.

Filed Date: 08/30/2011.

Accession Number: 20110830-5148.

Comment Date: 5 p.m. Eastern Time on Tuesday, September 20, 2011.

Docket Numbers: ER11-4403-000.

Applicants: Pacific Gas and Electric Company.

Description: Pacific Gas and Electric Company submits tariff filing per 35.13(a)(2)(iii: Cantua Solar Station WDT SGIA to be effective 9/1/2011.

Filed Date: 08/31/2011.

Accession Number: 20110831-5003.

Comment Date: 5 p.m. Eastern Time on Wednesday, September 21, 2011.

Docket Numbers: ER11-4404-000.

Applicants: Pacific Gas and Electric Company.

Description: Pacific Gas and Electric Company submits tariff filing per 35.13(a)(2)(iii: Giffen Solar Station WDT SGIA to be effective 9/1/2011.

Filed Date: 08/31/2011.

Accession Number: 20110831-5004.

Comment Date: 5 p.m. Eastern Time on Wednesday, September 21, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2011.
Nathaniel J. Davis, Sr.,
Deputy Secretary.

[FR Doc. 2011-23083 Filed 9-8-11; 8:45 am]

BILLING CODE 6717-01-P